FEDERAL RESERVE SYSTEM

Consumer Advisory Council

Notice of Meeting of Consumer Advisory Council

The Consumer Advisory Council will meet on Thursday, October 25, 2001. The meeting, which will be open to public observation, will take place at the Federal Reserve Board’s offices in Washington, D.C., in Dining Room E of the Martin Building (Terrace level). The meeting will begin at 8:45 a.m. and is expected to conclude at 1:00 p.m. The Martin Building is located on C Street, Northwest, between 20th and 21st Streets.

The Council's function is to advise the Board on the exercise of the Board's responsibilities to implement various consumer financial services, fair lending, and community investment laws and on other matters on which the Board seeks its advice. Time permitting, the Council will discuss the following topics:

Electronic Delivery of Disclosures -Discussion of the Board's interim rules ensuring effective delivery of disclosures required under certain consumer financial services laws, when these disclosures are provided electronically.

Truth in Lending Act -Discussion of credit card rules to identify areas for possible regulatory revisions under Regulation Z which implements the Truth in Lending Act. Discussion of mortgage reform alternatives.

Community Reinvestment Act - Discussion of topics to be included in the 2002 review of Regulation BB which implements the Community Reinvestment Act.

Committee Reports - Council committees will report on their work.

Other matters initiated by Council members also may be discussed.

Persons wishing to submit views to the Council regarding any of the above topics may do so by sending written statements to Ann Bistay, Secretary of the Consumer Advisory Council, Division of Consumer and Community Affairs, Board of Governors of the Federal Reserve System, Washington, D.C. 20551. Information about this meeting may be obtained from Ms. Bistay, 202-452-6470.

Board of Governors of the Federal Reserve System, September 28, 2001.
Jennifer J. Johnson,
Secretary of the Board.

[FR Doc. 01-24795 Filed 10-3-01; 8:45 am]

BILLING CODE 6210-01-S